DEPARTMENT OF HEALTH AND HUMAN SERVICES

Agency for Toxic Substances and Disease Registry

[ATSDR-227]

Public Health Assessments and Health Consultations Completed

July 2006-September 2006

AGENCY: Agency for Toxic Substances and Disease Registry (ATSDR), Department of Health and Human Services (HHS).

ACTION: Notice.

SUMMARY: This notice announces those sites for which ATSDR has completed public health assessments and health consultations during the period from July 2006 through September 2006. This list includes sites that are on or proposed for inclusion on the National Priorities List (NPL) and includes sites for which assessments or consultations were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on August 2, 2006 [71 FR 43774]. This announcement is the responsibility of ATSDR under the regulation “Public Health Assessments and Health Effects Studies of Hazardous Substances Releases and Facilities” [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and health consultations are available for public inspection at the ATSDR Records Center, 1825 Century Boulevard, Atlanta, Georgia (not a mailing address), between 8 a.m. and 4:30 p.m., Monday through Friday except legal holidays. Public health assessments and health consultations are often available for public review at local repositories such as libraries in corresponding areas. Many public health assessments and health consultations are available through ATSDR's Web site at http://www.atsdr.cdc.gov/HAC/PHA/. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between July 2006, and September 2006, public health assessments were issued for the sites listed below:

NPL and Proposed NPL Sites

Illinois

Ottawa Radiation Areas—(PB2006-114090)

Louisiana

Gulf States Utilities Company (a/k/a North Ryan Street Facility)—(PB2006-115440)

Missouri

Annapolis Lead Mine—(PB2006-115491)

New Jersey

Crown Vantage Landfill Site—(PB2006-113405)

Naval Weapons Station Earle (NWSE)—(PB2006-114586)

Rolling Knolls Landfill—(PB2006-113406)

New York

Hudson Technologies, Inc.—(PB2006-101877)

Tennessee

Evaluation of Potential Exposures to Contaminated Off-Site Groundwater from the Oak Ridge Reservation (USDOE)—(PB2006-114089)

White Oak Creek Radionuclide Releases, Oak Ridge Reservation (USDOE)—(PB2006-114587)

Wisconsin

Scrap Processing Company, Inc. (a/k/a Scrap Processing)—(PB2006-100121)

Non-NPL Petitioned Sites

California

Evaluation of Exposures to Contaminants from the Former ABEX/REMCO Hydraulics Facility—(PB2006-114088)

Florida

Town and Country Lake Estates—(PB2006-100957)

New Mexico

Los Alamos National Laboratory, U.S. Department of Energy—(PB2006-115492)

Utah

Bauer Dump and Tailings Blackhawk Resin Company—(PB2006-114069)

West Virginia

Reedsville Scattered Foundry Waste CERCLIS Site—(PB2006-115493)

Health Consultations Completed or Issued

Between July 2006, and September 2006, health consultations were issued for the sites listed below:

Alabama

Matthews International: York Casket Voluntary Cleanup Site

Arizona

Evaluation of Water Flows in the Nogales Wash

North Indian Bend Wash—Central Ground Treatment Facility

Arkansas

Private Groundwater Well Quality Near the Transitech, Incorporated Site

California

Evaluation of Health Studies Possibilities and Limitations at the ABEX/REMCO Hydraulics Facility

Hookston Station Site Review and Approval of the Risk Assessment

Colorado

Schlage Lock Company—Exposure and Health Effects Evaluation of PCE Contamination in Willow Springs Ponds

Connecticut

Old Southington Landfill Site—Technical Review of the Risk Assessment for Gas Vent Volatile Organic Compound Data

Public Health Evaluation of Fish Contamination Data in the Connecticut River and Park River Conduit

Florida

Altha School Air Monitoring

Long's Old Pond—Fish Testing

Saufley Field Landfill—Evaluation of Ambient Air Sampling

Idaho

Evaluation of Air Contaminants in the Treasure Valley Area

Evaluation of Selenium in Elk in the Southeast Idaho Phosphate Resource Area

Illinois

Belvidere Municipal Landfill #1

Bohn Heat Transfer Facility

Dixie Auto Salvage

Lincoln Limited Landfill

Smith-Douglass

Iowa

Iowa City Former Manufactured Gas Plant Site

Tails A Waggin' Pet Resort—Arsenic Soil Contamination

Kentucky

Martin County Coal Slurry Release

Rubbertown Industrial Area

Louisiana

Bayou Sorrel—Post-Hurricane Groundwater Sampling Evaluation

Combustion, Inc.—Post-Hurricane Groundwater Sampling Evaluation

Devil's Swamp Lake—A Review of Fish Data

Hurricane Response Sampling Assessment for D.L. Mud, Inc.

Hurricane Response Sampling Assessment for Gulf Coast Vacuum Services

Hurricane Response Sampling Assessment for PAB Oil & Chemical Service, Inc.

Hurricane Response Sampling Assessment for the Agriculture Street Landfill

Hurricane Response Sampling Assessment for the Southern Shipbuilding Corporation

Petro Processors of Louisiana, Inc.—Post-Hurricane Groundwater Sampling Evaluation

Maine

Contaminant Accumulation Potential in Plants and Animals Used by the Aroostook Band of Micmac Indians at the Former Loring Air Force Base

Holtrachem Manufacturing Company

Massachusetts

Environmental Data Review for Witchcraft Heights Elementary School and Nearby Properties

Former Zonolite Facility—Wemelco Way

Michigan

I-75/Caniff Area (Hamtramck) Lead Contamination (a/k/a “Grand Haven” Area (Hamtramck) Lead Contamination)

Little Black Creek Sediments

Little Black Creek Sediments—Floodplain Soil Sampling Results

Petersburg Mercury Site

Minnesota

Former Park Rapids Dump

Off-Site Soils: CMC Heartland Partners Lite Yard Site

St. Louis River Sediments: U.S. Steel Site—Dioxin and Polycyclic Aromatic Hydrocarbon Chemical Signatures (Fingerprints) in Sediments

St. Louis River Sediments: U.S. Steel Site—Technical Review of Discrepancies in 2002 Lacer Induced Fluorescence Data, and 2003 and 2004 Analytical Data

Missouri

Brewer Brothers Petroleum Bulk Plant

Former Cardwell Memorial Hospital

Former Zonolite Company/W.R. Grace Facility—St. Louis

Sherrill Mini Mart/Health Clinic

Nevada

Yerington Anaconda Mine Site (a/k/a Anaconda Mine)

New Hampshire

Bear Brook Villa

Cancer Incidence: Residents of Claremont, Sullivan County, New Hampshire (Wheelabrator-Claremont Site)

New Jersey

Adrow Chemical Company Site

Kiddie Kollege—Mercury Exposure Investigation

Matteo & Sons (a/k/a Matteo Iron and Metal Site)

New York

Mariners Marsh Park—Area of Concern

North Carolina

Payne Road Solvents

Sigmon's Septic Tank Service—Evaluation of Surface Water Data

Ohio

Fair Oak Park

Oregon

North Morrow and Northwest Umatilla Perchlorate Area

Salem-Keizer School District—3M Flooring

Pennsylvania

Former W.R. Grace/Zonolite Co. Facility—Investigation of Nearby Play Area

Waymart Spill Site

Tennessee

Clover Creek Workers (a/k/a Velsicol Chemical Corp.)

Cypress Creek Sub-Area III

Glover Site (a/k/a Tennessee Products)

Skyline Drive Dump

Texas

Cox Road Dump Site—Barium Health Concern

Tenaha Wood Treating

Tronox LLC, Texarkana Facility

Washington

BSB Diversified/Hexcel Corporation—Evaluation of Ground Water Contamination

DNR Triangle Gravel Pit

Gilbert Elementary School—Evaluation of Soil Contamination

Holmes Harbor

Lincoln Elementary School—Evaluation of Soil Contamination

Manson Elementary School—Evaluation of Soil Contamination

Naches Valley Intermediate School—Evaluation of Soil Contamination

Robertson Elementary School—Evaluation of Soil Contamination

Washington Elementary School—Evaluation of Soil Contamination

Wisconsin

Badger Army Ammunition Plant—Dinitrotoluene in Private Wells

Econocare Cleaners Vapor Intrusion Investigation

Redi-Quik Dry Cleaners—Vapor Intrusion in a Private Residence

Dated: December 8, 2006.
Kenneth Rose,
Acting Director, Office of Policy, Planning, and Evaluation, National Center for Environmental Health/Agency for Toxic Substances and Disease Registry.

[FR Doc. E6-21263 Filed 12-13-06; 8:45 am]

BILLING CODE 4163-70-P